DEPARTMENT OF THE INTERIOR

Fish and Wildlife Service

50 CFR Part 17

[FWS-R8-FHC-2011-0046]; [FF08E00000-FXES11130800000D2-123]

RIN 1018-AX51

Endangered and Threatened Wildlife and Plants; Termination of the Southern Sea Otter Translocation Program; Final Supplemental Environmental Impact Statement on the Translocation of Southern Sea Otters

AGENCY: Fish and Wildlife Service, Interior.

ACTION: Notice of availability.

SUMMARY: We, the U.S. Fish and Wildlife Service (Service), announce the availability of our final Supplemental Environmental Impact Statement on the Translocation of Southern Sea Otters (final SEIS). The final SEIS evaluates options for continuing, revising, or terminating the southern sea otter translocation program, which was initiated in 1987. The purpose of the program was to achieve a primary recovery action for the southern sea otter: to create an established population at San Nicolas Island sufficient to repopulate other areas of the range should a catastrophic event affect the mainland population. The document describes the proposed action and alternatives under consideration and discloses the direct, indirect, and cumulative environmental effects of each of the alternatives.

DATES: We will execute a Record of Decision no sooner than 30 days after the date the Environmental Protection Agency publishes its notice of availability of the final SEIS in the Federal Register.

ADDRESSES: The final SEIS and other documents are available in electronic format at the following places:

• Federal eRulemaking Portal: Go to http://www.regulations.gov. In the search field, enter FWS-R8-FHC-2011-0046, which is the docket number. Then click on the Search button. On the resulting screen, you may view documents associated with the docket.

• Agency Web site: You can view supporting documents on our Web site at http://www.fws.gov/ventura/.

• Our office: Call 805-644-1766 to make an appointment, during normal business hours, to view the documents, comments, and materials in person at the U.S. Fish and Wildlife Service, Ventura Fish and Wildlife Office, 2493 Portola Road, Suite B, Ventura, CA 93003-7726.

Alternatively, a limited number of CD-ROMs and hard copies of the final SEIS are available from the U.S. Fish and Wildlife Service, Ventura Fish and Wildlife Office, 2493 Portola Road, Suite B, Ventura, CA 93003-7726.

FOR FURTHER INFORMATION CONTACT: Lilian Carswell, at the above Ventura street address, by telephone (805-612-2793), or by electronic mail (Lilian_Carswell@fws.gov). Persons who use a telecommunications device for the deaf may call the Federal Information Relay Services at 800-877-8339.

SUPPLEMENTARY INFORMATION: We announce the availability of our final Supplemental Environmental Impact Statement on the Translocation of Southern Sea Otters (final SEIS). The final SEIS evaluates options for continuing, revising, or terminating the southern sea otter translocation program (52 FR 29754, Aug. 11, 1987). The document describes the proposed action and alternatives under consideration and discloses the direct, indirect, and cumulative environmental effects of each of the alternatives.

Background

The final SEIS reevaluates the effects of the southern sea otter translocation plan, as described in the U.S. Fish and Wildlife Service's 1987 environmental impact statement on our program for translocation of southern sea otters (May 8, 1987, 52 FR 17486). Using information obtained over the decades since the program's implementation, we evaluate the impacts of alternatives to the current translocation program, including termination or revisions to the program. The need for action stems from our inability to meet the goals of the southern sea otter translocation program. Contrary to the primary recovery objective of the program, the translocation of sea otters to San Nicolas Island has not resulted in an established population sufficient to repopulate other areas of the range should a catastrophic event affect the mainland population. Additionally, maintenance of a management zone has proven to be more difficult than anticipated and hinders or may prevent recovery of the southern sea otter.

We consider six alternatives, including a No Action Alternative. Alternative 1 resumes implementation of the 1987 southern sea otter translocation program as originally defined. Alternative 2 resumes implementation of the 1987 southern sea otter translocation program but reduces the size of the management zone. Alternatives 3A, 3B, and 3C allow for the natural range expansion of southern sea otters through termination of the 1987 translocation program, including its associated translocation zone and management zone, but differ in the actions to be taken with sea otters existing in these zones upon termination of the program. Alternative 3A requires the short-term removal of sea otters from both the management zone and the translocation zone before natural range expansion is allowed. Alternative 3B requires the short-term removal of sea otters from the translocation zone only. The Service's preferred alternative (Alternative 3C) is to allow for the natural range expansion of sea otters through termination of the 1987 translocation program and to allow sea otters existing in the former translocation and management zones to remain there.

We have afforded other government agencies and the public extensive opportunity to participate in the preparation of this EIS. On July 27, 2000, we published in the Federal Register a notice of intent to prepare a SEIS on the southern sea otter translocation program (65 FR 46172). The notice of intent announced that public scoping meetings would be held on August 15, 2000, in Santa Barbara, California, and on August 17, 2000, in Monterey, California. In April 2001, we published a scoping report and distributed it to scoping meeting participants and other interested parties (the scoping report is included as Appendix E to the final SEIS).

We announced the availability of the draft SEIS and the beginning of the public comment period on October 7, 2005 (70 FR 58737). The comment period was originally scheduled to end on January 5, 2006 (70 FR 58737). On December 30, 2005, we extended the comment period to March 6, 2006 (70 FR 77380), based on requests for a 30-day or 60-day extension of the comment period by fishing and environmental groups. We accepted oral and written testimony during public hearings held in Santa Barbara, California, on November 1, 2005, and Monterey, California, on November 3, 2005. During the 5-month comment period, we received approximately 20,000 comments from interested individuals and organizations.

Continuing efforts to resolve stakeholder concerns forestalled publication of a final SEIS for several years. On September 30, 2009, two environmental groups filed suit against the Service under provisions of the Administrative Procedure Act, alleging that we had unreasonably delayed a decision on the translocation program. Publication of a final SEIS on the translocation program is part of the settlement agreement we reached with plaintiffs on November 23, 2010.

In order to ensure that our analysis reflects current conditions, we revised the draft SEIS. We announced the availability of a revised draft SEIS and a proposed rule to implement the preferred alternative on August 26, 2011 (76 FR 53381). Appendix G to the revised draft SEIS included a list of commenters, summaries of comments received on the draft SEIS, and our responses to those comments. The comment period for the revised draft SEIS was originally scheduled to end on October 24, 2011 (76 FR 53381). On November 4, 2011, we announced a reopening of the comment period until November 21, 2011 (76 FR 68393), based on a request for a 45-day extension by the California Sea Urchin Commission. We were unable to grant the full 45-day extension because we required sufficient time to consider public comments and to revise the SEIS as appropriate while still meeting court settlement deadlines; however, the reopened comment period allowed us to accept public comments for 18 additional days. We accepted oral and written testimony during public hearings held in Ventura, California, on September 27, 2011; Santa Barbara, California, on October 4, 2011; and Santa Cruz, California, on October 6, 2011. Approximately 190 people attended the public hearings, and 68 provided testimony.

In the 78 days during which comments were accepted, we received 6,843 comment letters, postcards, and emails from interested individuals and organizations. Among the comment letters were 5 petitions with 12,514 signatories.

Appendix G to the final SEIS includes a list of commenters, summaries of comments received on the revised draft SEIS, and our responses to those comments.

Authority

This notice is provided pursuant to Fish and Wildlife Service regulations for implementing the National Environmental Policy Act of 1969 (40 CFR 1506.6).

Dated: November 1, 2012.
Alexandra Pitts,
Acting Regional Director, Pacific Southwest Region.

[FR Doc. 2012-27310 Filed 11-8-12; 8:45 am]

BILLING CODE 4310-55-P